DEPARTMENT OF HEALTH AND HUMAN SERVICES

Meeting of the Vaccines Federal Implementation Plan

AGENCY: Department of Health and Human Services, Office of the Secretary, Office of the Assistant Secretary for Health, Office of Infectious Disease and HIV/AIDS Policy.

ACTION: Notice.

SUMMARY: The Department of Health and Human Services' Office of Infectious Disease and HIV/AIDS Policy in the Office of the Assistant Secretary for Health announces that the draft Vaccines Federal Implementation Plan 2021-2025 is available for public comment. The Vaccines Federal Implementation Plan is a companion document to the Vaccines National Strategic Plan 2021-2025 (VNSP), which was published in January 2021. The Vaccines Federal Implementation Plan is a compilation of federal agency immunization activities that collectively advance the goals of the VNSP. Its target audience is other federal agencies and external partners who work in the area of vaccination. The public will be interested in how the implementation plan documents federal agency efforts. It does not outline mandates or other COVID-19 response measures.

DATES: The public comment period for the Vaccines Federal Implementation Plan starts on February 28, 2022 at 9 a.m. ET and ends on March 29, 2022 at 5 p.m. ET. All comments must be received by 5 p.m. ET on March 29, 2022 to be considered.

ADDRESSES: All comments must be submitted electronically to nvp.rfi@hhs.gov.

FOR FURTHER INFORMATION CONTACT: David Kim, MD, MA, Director, Division of Vaccines, Office of Infectious Disease and HIV/AIDS Policy, Office of the Assistant Secretary for Health, U.S. Department of Health and Human Services, Room L616, Switzer Building, 330 C St. SW, Washington, DC 20024. Phone: 202-795-7697; Email: nvp.rfi@hhs.gov.

Dated: February 17, 2022.
David Kim,
Designated Federal Officer, Vaccines Federal Implementation Plan, Office of the Assistant Secretary for Health.

[FR Doc. 2022-04327 Filed 3-1-22; 8:45 am]

BILLING CODE 4150-44-P